CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the proposed collection, AmeriCorps Member Satisfaction Survey. Copies of the form can be obtained by contacting the office listed below in the ADDRESSES section of this notice.

DATES: Written comments must be submitted to the office listed in the ADDRESSES section by January 18, 2005.

ADDRESSES: You may submit written input to the Corporation by any of the following methods:

(1) Electronically through the Corporation's e-mail address system to LaMonica Shelton at lshelton@cns.gov.

(2) By fax to 202-565-2785, Attention Ms. LaMonica Shelton.

(3) By mail sent to: Corporation for National and Community Service, Office of Research and Policy Development, 8th Floor, Attn: Ms. LaMonica Shelton, 1201 New York Avenue NW., Washington, DC 20525.

(4) By hand delivery or by courier to the Corporation's mailroom at Room 6010 at the mail address given in paragraph (3) above, between 9 a.m. and 4 p.m. Monday through Friday, except Federal holidays.

FOR FURTHER INFORMATION CONTACT: Ms. LaMonica Shelton, (202) 606-5000, ext. 464.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

I. Background

The Corporation for National and Community Service, through its national service programs and projects: (1) Provides opportunities for all Americans to serve; (2) affords members with meaningful, valuable, and enriching experiences (such as through leadership training, technical assistance, and citizenship training development); and (3) supports a continued ethic of volunteer service. The service opportunities available to members cover a wide range of activities over varying periods of time. The Corporation plans to administer a member satisfaction that will allow members to provide information about their satisfaction with their AmeriCorps program or project, and with their overall AmeriCorps service experience.

II. Current Action

Type of Review: New information collection.

Agency: Corporation for National and Community Service.

Title: AmeriCorps Member Satisfaction Survey.

OMB Number: None.

Agency Number: None.

Affected Public: Individuals who are serving in AmeriCorps sponsored programs and projects.

Total Respondents: 75,000 responses annually.

Frequency: Semi-annual.

Average Time Per Response: 10 minutes.

Estimated Total Burden Hours: 25,000 hours (75,000 members respond two times a year at 10 minutes per response).

Total Burden Cost (capital/startup): None.

Total Burden Cost (operating/maintenance): None.

Comments submitted in response to this notice will be summarized and/or included in the request for Office of Management and Budget approval of the information collection request; they will also become a matter of public record.

Dated: November 11, 2004.
Robert Grimm,
Director, Office of Research and Policy Development.

[FR Doc. 04-25634 Filed 11-17-04; 8:45 am]

BILLING CODE 6050-$$-P